DEPARTMENT OF HEALTH AND HUMAN SERVICES

Indian Health Service

[OMB NO. 0917-0028]

Request for Public Comment: 30-Day Proposed Information Collection: Addendum to Declaration for Federal Employment, Child Care and Indian Child Care Worker Positions

AGENCY: Indian Health Service, HHS.

ACTION: Notice and request for comments. Request for extension of approval.

SUMMARY: In compliance with the Paperwork Reduction Act of 1995, the Indian Health Service (IHS) has submitted to the Office of Management and Budget (OMB) a request for extension of approval of the information collection titled, “Addendum to Declaration for Federal Employment, Child Care and Indian Child Care Worker Positions,” Office of Management and Budget (OMB) Control Number 0917-0028.

DATES: December 27, 2018. Your comments regarding this information collection are best assured of having full effect if received within 30 days of the date of this publication.

DIRECT YOUR COMMENTS TO OMB: Send your comments and suggestions regarding the proposed information collection contained in this notice, especially regarding the estimated public burden and associated response time to: Office of Management and Budget, Office of Regulatory Affairs, New Executive Office Building, Room 10235, Washington, DC 20503, Attention: Desk Officer for IHS.

FOR FURTHER INFORMATION CONTACT: Send requests for more information on the proposed collection, or requests to obtain a copy of the data collection instrument and instructions to Evonne Bennett-Barnes by one of the following methods:

• Mail: Evonne Bennett-Barnes, Information Collection Clearance Officer, 5600 Fishers Lane, Mail stop: 09E21B, Rockville, MD 20857.

• Email: Evonne.Bennett-Barnes@ihs.gov.

• Phone: 301-443-4750.

SUPPLEMENTARY INFORMATION: This previously approved information collection expires November 30, 2018. Notice regarding the information collection was last published in the Federal Register (83 FR 48831) on September 27, 2018, and allowed 60 days for public comment. No comments were received in response to the previous notice. The purpose of this notice is to allow an additional 30 days for public comment.

A copy of the supporting statement is available at www.regulations.gov (see Docket ID IHS_FRDOC_0001).

OMB is particularly interested in comments that: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond; including through the use of appropriate automated collection techniques of other forms of information technology, e.g., permitting electronic submission of responses.

Proposed Collection Title: Addendum to Declaration for Federal Employment, Child Care and Indian Child Care Worker Positions (OMB No. 0917-0028). Type of Information Collection Request: Extension, without revision, of currently approved information collection, 0917-0028, Addendum to Declaration for Federal Employment, Child Care and Indian Child Care Worker Positions. There are no program changes or adjustments in burden hours. Form(s): Addendum to Declaration for Federal Employment, Child Care and Indian Child Care Worker Positions. Need and Use of Information Collection: This is a request for approval of the collection of information as required by section 408 of the Indian Child Protection and Family Violence Prevention Act, Public Law (Pub. L.) 101-630, 104 Stat. 4544, and 25 United States Code (U.S.C.) §§ 3201-3210.

The IHS is required to compile a list of all authorized positions within the IHS where the duties and responsibilities involve regular contact with, or control over, Indian children; and to conduct an investigation of the character of each individual who is employed, or is being considered for employment, in a position having regular contact with, or control over, Indian children. 25 U.S.C. 3207(a)(1) and (2). Title 25 U.S.C. 3207(a)(3) requires regulations prescribing the minimum standards of character for individuals appointed to positions involving regular contact with, or control over, Indian children, and section 3207(b) provides that such standards shall ensure that no such individuals have been found guilty of, or entered a plea of nolo contendere or guilty to any felonious offense, or any two or more misdemeanor offenses, under Federal, State, or Tribal law involving crimes of violence; sexual assault, molestation, exploitation, contact or prostitution; crimes against persons; or offenses committed against children.

In addition, 34 U.S.C. 20351 (formerly codified at 42 U.S.C. 13041, which was transferred to 34 U.S.C. 20351) requires each agency of the Federal Government, and every facility operated by the Federal Government (or operated under contract with the Federal Government), that hires (or contracts for hire) individuals involved with the provision of child care services to children under the age of 18 to assure that all existing and newly hired employees undergo a criminal history background check. The background investigation is to be initiated through the personnel program of the applicable Federal agency. This section requires employment applications for individuals who are seeking work for an agency of the Federal Government, or for a facility or program operated by (or through contract with) the Federal Government, in positions involved with the provision of child care services to children under the age of 18, to contain a question asking whether the individual has ever been arrested for or charged with a crime involving a child, and if so, requiring a description of the disposition of the arrest or charge.

Affected Public: Individuals and households. Type of Respondents: Individuals.

The table below provides: Types of data collection instruments, Estimated number of respondents, Number of responses per respondent, Average burden hour per response, and Total annual burden hour(s).

Estimated Annual Burden Hours
Data collection instrument(s) | Number of respondents | Number of responses per respondent | Average burden per response (in hours) | Total annual burden responses (in hours)
Addendum to Declaration for Federal Employment (OMB 0917-0028) | 3,000 | 1 | 12/60 | 600
Total | 3,000 |  |  | 600

There are no Capital Costs, Operating Costs, and/or Maintenance Costs to report.

Dated: November 19, 2018.
Michael D. Weahkee,
Assistant Surgeon General, U.S. Public Health Service, Principal Deputy Director, Indian Health Service.

[FR Doc. 2018-25819 Filed 11-26-18; 8:45 am]

BILLING CODE 4165-16-P